NUCLEAR REGULATORY COMMISSION

[Docket No. NRC-2012-0135]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on September 5, 2012 (77 FR 54617).

1. Type of submission, new, revision, or extension: Extension.

2. The title of the information collection: NRC Form 171, “Duplication Request.”

3. Current OMB approval number: 3150-0066.

4. The form number if applicable: NRC Form 171.

5. How often the collection is required: On Occasion.

6. Who will be required or asked to report: Individuals, companies, or organizations requesting document duplication.

7. An estimate of the number of annual responses: 200.

8. The estimated number of annual respondents: 200.

9. An estimate of the total number of hours needed annually to complete the requirement or request: 17.

10. Abstract: This form is utilized by the Public Document Room (PDR) staff members who collect information from the public requesting reproduction of publicly available documents in NRC's PDR. Copies of the form are utilized by the reproduction contractor to accompany the orders. One copy of the form is kept by the contractor for their records, one copy is sent to the public requesting the documents, and the third copy (with no credit card data) is kept by the PDR staff for 90 calendar days, and then securely discarded.

The public may examine and have copied for a fee publicly available documents, including the final supporting statement, at the NRC's PDR, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by January 11, 2013. Comments received after this date will be considered if it is practical to do so, but assurance of consideration cannot be given to comments received after this date.

Chad Whiteman, Desk Officer, Office of Information and Regulatory Affairs (3150-0066), NEOB-10202, Office of Management and Budget, Washington, DC 20503.

Comments can also be emailed to Chad_S_Whiteman@omb.eop.gov or submitted by telephone at 202-395-4718.

The NRC Clearance Officer is Tremaine Donnell, 301-415-6258.

Dated at Rockville, Maryland, this 6th day of December 2012.
For the Nuclear Regulatory Commission.
Tremaine Donnell,
NRC Clearance Officer, Office of Information Services.

[FR Doc. 2012-29944 Filed 12-11-12; 8:45 am]

BILLING CODE 7590-01-P